DEPARTMENT OF COMMERCE

National Oceanic and Atmospheric Administration

15 CFR Part 922

[Docket No. 070726412-1300-02]

RIN 0648-BA24

Expansion of Fagatele Bay National Marine Sanctuary, Regulatory Changes, and Sanctuary Name Change; Notice of Effective Date

AGENCY: Office of National Marine Sanctuaries (ONMS), National Oceanic and Atmospheric Administration (NOAA), Department of Commerce (DOC).

ACTION: Notice of effective date.

SUMMARY: NOAA published a final rule to add five additional discrete geographical areas to the sanctuary and change the name of the Fagatele Bay National Marine Sanctuary (FBNMS or sanctuary) to the National Marine Sanctuary of American Samoa (NMSAS) on July 26, 2012 (77 FR 43942). NOAA also amended existing sanctuary regulations and applied these regulations to activities in the sanctuary. Pursuant to Section 304(b) of the National Marine Sanctuaries Act (16 U.S.C. 1434(b)) the final regulations take effect after 45 days of continuous session of Congress beginning on July 26, 2012. Through this notice, NOAA is announcing the regulations became effective on October 15, 2012.

DATES: Effective Date: The regulations published on July 26, 2012 (77 FR 43942) are effective on October 15, 2012.

FOR FURTHER INFORMATION CONTACT: Gene Brighouse, Sanctuary Superintendent, at (684) 633 6504.

Dated: October 23, 2012.
Holly A. Bamford,
Deputy, Assistant Administrator for Ocean Services and Coastal Zone Management.

[FR Doc. 2012-26563 Filed 10-30-12; 8:45 am]

BILLING CODE 3510-NK-M